DEPARTMENT OF LABOR

Employment and Training Administration

[TA-W-54,559]

Cequent Trailer Products, Formerly Hammerblow Corp., Wausau, Wisconsin; Dismissal of Application for Reconsideration

Pursuant to 29 CFR 90.18(C) an application for administrative reconsideration was filed with the Director of the Division of Trade Adjustment Assistance for workers at Cequent Trailer Products, Formerly HammerBlow Corporation, Wausau, Wisconsin. The application contained no new substantial information which would bear importantly on the Department's determination. Therefore, dismissal of the application was issued.

TA-W-54,559; Cequent Trailer Products Formerly HammerBlow Corporation, Wausau, Wisconsin (June 8, 2004)

Signed at Washington, DC, this 10th day of June, 2004.
Timothy Sullivan,
Director, Division of Trade Adjustment Assistance.

[FR Doc. 04-13596 Filed 6-16-04; 8:45 am]

BILLING CODE 4510-30-P